PENSION BENEFIT GUARANTY CORPORATION

Submission of Information Collection for OMB Review; Comment Request; Notice of Failure To Make Required Contributions

AGENCY: Pension Benefit Guaranty Corporation.

ACTION: Notice of request for extension of OMB approval of a currently approved collection (with modifications).

SUMMARY: The Pension Benefit Guaranty Corporation (PBGC) is requesting that the Office of Management and Budget (OMB) extend approval, under the Paperwork Reduction Act, of the collection of information (with modifications) under subparts A and D of Part 4043 of its regulations on Reportable Events and Certain Other Notification Requirements (OMB control number 1212-0041; expires February 28, 2009). This notice informs the public of PBGC's request and solicits public comment on the collection of information.

DATES: Comments must be submitted by February 26, 2009.

ADDRESSES: Comments should be sent to the Office of Information and Regulatory Affairs, Office of Management and Budget, Attention: Desk Officer for Pension Benefit Guaranty Corporation, via electronic mail at OIRA_DOCKET@omb.eop.gov or by fax to 202-395-6974.

Copies of the collection of information and comments may be obtained without charge by writing to the Disclosure Division, Office of General Counsel, 1200 K St., NW., Washington, DC 20005-4026, or by visiting the Disclosure Division or calling 202-326-4040 during normal business hours. (TTY and TDD users may call the Federal relay service toll-free at 1-800-877-8339 and ask to be connected to 202-326-4040.) The reportable events regulations, forms, and instructions may be accessed on PBGC's Web site at http://www.pbgc.gov.

FOR FURTHER INFORMATION CONTACT: James Bloch, Program Analyst, Legislative and Policy Division, or Catherine B. Klion, Manager, Regulatory and Policy Division, Legislative and Regulatory Department, Pension Benefit Guaranty Corporation, 1200 K Street, NW., Washington, DC 20005-4026; 202-326-4024. (For TTY/TDD users, call the Federal relay service toll-free at 1-800-877-8339 and ask to be connected to 202-326-4024.)

SUPPLEMENTARY INFORMATION: Section 303(k) of the Employee Retirement Income Security Act of 1974 (“ERISA”) and section 430(k) of the Internal Revenue Code of 1986 (“Code”) impose a lien in favor of an underfunded single-employer plan that is covered by the termination insurance program if (1) any person fails to make a contribution payment when due, and (2) the unpaid balance of that payment (including interest), when added to the aggregate unpaid balance of all preceding payments for which payment was not made when due (including interest), exceeds $1 million. (For this purpose, a plan is underfunded if its funding target attainment percentage is less than 100 percent.) The lien is upon all property and rights to property belonging to the person or persons who are liable for required contributions (i.e., a contributing sponsor and each member of the controlled group of which that contributing sponsor is a member).

Only PBGC (or, at its direction, the plan's contributing sponsor or a member of the same controlled group) may perfect and enforce this lien. ERISA and the Code require persons committing payment failures to notify PBGC within 10 days of the due date whenever there is a failure to make a required payment and the total of the unpaid balances (including interest) exceeds $1 million.

These statutory requirements are implemented by subparts A and D of PBGC's regulation on Reportable Events and Certain Other Notification Requirements (29 CFR part 4043). Section 4043.81 of the regulation provides that required reports must be made using PBGC Form 200, Notice of Failure to Make Required Contributions, in accordance with the related filing instructions. The form and instructions have been revised to remove information that is no longer applicable in light of changes made by the Pension Protection Act of 2006.

The collection of information under the regulation has been approved through February 28, 2009, by OMB under control number 1212-0041. PBGC is requesting that OMB extend approval of the collection (with modifications) for another three years. An agency may not conduct or sponsor, and a person is not required to respond to, a collection of information unless it displays a currently valid OMB control number.

PBGC estimates that it will receive 185 Form 200 filings per year under this collection of information. PBGC further estimates that the average annual burden of this collection of information is 873 hours and $305,550.

Issued in Washington, DC, this 21st day of January, 2009.
John H. Hanley,
Director, Legislative and Regulatory Department, Pension Benefit Guaranty Corporation.

[FR Doc. E9-1783 Filed 1-26-09; 8:45 am]

BILLING CODE 7709-01-P